DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by ACNR Holdings, Inc.

DATES: All comments on the petition must be received by MSHA's Office of Standards, Regulations, and Variances on or before May 19, 2025.

ADDRESSES: You may submit comments identified by Docket No. MSHA-2025-0045 by any of the following methods:

1. Federal eRulemaking Portal: https://www.regulations.gov. Follow the instructions for submitting comments for MSHA-2025-0045.

2. Fax: 202-693-9441.

3. Email: petitioncomments@dol.gov.

4. Regular Mail or Hand Delivery: MSHA, Office of Standards, Regulations, and Variances, Room C3522, 200 Constitution Ave. NW, Washington, DC 20210.

Attention: S. Aromie Noe, Director, Office of Standards, Regulations, and Variances. Persons delivering documents are required to check in at the receptionist's desk. Individuals may inspect copies of the petition and comments during normal business hours at the address listed above. Before visiting MSHA in person, call 202-693-9455 to make an appointment.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, §§ 44.10 and 44.11 of 30 CFR establish the requirements for filing petitions for modification.

II. Petition for Modification

Docket Number: M-2025-035-C.

Petitioner: ACNR Holdings, Inc., 46226 National Road, St. Clairsville, OH 43950.

Mines: Ohio County Mine, MSHA ID No. 46-01436, located in Marshall County, West Virginia; Marshall County Mine, MSHA ID No. 46-01437, located in Marshall County, West Virginia; Marion County Mine, MSHA ID No. 46-01433, located in Marion County, West Virginia; Harrison County Mine, MSHA ID No. 46-01318, located in Wetzel County, West Virginia.

Regulation Affected: 30 CFR 75.1002(a), Permissible electric equipment.

Modification Request: The petitioner requests a modification of the application of 30 CFR 75.1002(a) to allow the use of an alternative method of respirable dust protection. Specifically, the petitioner is requesting to utilize the 3M Versaflo TR-800 Powered Air Purifying Respirator (PAPR) to be used within 150 feet of pillar workings or longwall faces.

The petitioner states that:

(a) The 3M Versaflo TR-800 Powered Respirator is an intrinsically safe Powered Air Purifying Respirator (PAPR) which is certified by UL under the ANSI/UL 60079-11 standard to be used in hazardous locations because it meets the intrinsic safety protection level and is acceptable in other jurisdictions to use in mines with the potential for methane accumulation.

(b) ACNR Holdings, Inc. currently has approved petitions for modification pertaining to 30 CFR 75.500(d), 75.507-1(a) and 75.1002(a) to utilize the CleanSpace EX in areas where permissible equipment is used.

(c) ACNR Holdings, Inc. previously used the 3M airstream helmets to provide miners respirable dust protection on the longwall faces.

(d) 3M has discontinued the Airstream helmet and there are no other MSHA approved PAPRs available.

The petitioner proposes the following alternative method:

(a) The equipment shall be examined at least weekly by a qualified person according to 30 CFR 75.512-2 and examination results shall be recorded weekly and may be expunged after one year.

(b) A qualified person under 30 CFR 75.151 shall monitor for methane as is required by the standard in the affected area of the mine.

(c) If methane is detected in concentrations of 1.0 percent or more, procedures in accordance with 30 CFR 75.323 shall be followed.

(d) The examinations for the Versaflo TR-800 PAPRs shall include:

(1) Check the equipment for any physical damage and the integrity of the case;

(2) Remove the battery and examine for corrosion;

(3) Inspect the contact points to ensure a secure connection to the battery;

(4) Reinsert the battery and power up and shut down to ensure proper connections;

(5) Check the battery compartment cover or battery attachment to ensure that it is securely fastened; and

(6) For equipment utilizing lithium type cells, ensure that lithium cells and/or packs are not damaged or swollen.

(e) The 3M Versaflo TR-800 PAPR shall only use the 3M TR-830 battery pack or manufacturer equivalent.

(f) Before each shift when the Versaflo TR-800 is to be used, all batteries and power units for the equipment shall be charged sufficiently for the expected usage on that shift. If spare battery packs for the Versaflo TR-800 PAPR are provided, all battery “change outs” shall occur in intake air outby the last open crosscut.

(g) The following maintenance and use conditions shall apply to equipment containing lithium-type batteries:

(1) The TR-830 Battery Pack shall not be disassembled or modified by anyone other than permitted by the manufacturer of the equipment.

(2) The TR-830 Battery Pack shall be charged only on the surface of the mine and only using a manufacturer's recommended battery charger shown below or manufacturer equivalent.

(i) 3M Battery Charger TR-641N.

(ii) 3M 4-Station battery charger TR-644N.

(3) The Versaflo TR-800 PAPR, including the internal battery, shall be used, charged, or stored in locations where the manufacturer's recommended temperature limits are not exceeded.

(4) The TR-830 battery pack shall not be used at the end of its life cycle (i.e., when there is a performance decrease of greater than 20% in battery-operated equipment). The battery pack shall be disposed of properly.

(h) Miners will receive training regarding how to safely use, care for, inspect the PAPR, and the Proposed Decision and Order (PDO) before using equipment in the relevant part of the mine. A record of the training shall be kept and available upon request.

The miners at Ohio County Mine, Marshall County Mine, Marion County Mine, and Harrison County Mine are represented by a representative of miners. A copy of the petition for modification was presented to the representatives of miners for Ohio County Mine and Marion County Mine on February 10, 2025. A copy of the petition for modification was presented to the representatives of miners for Marshall County Mine and Harrison County Mine on February 13, 2025.

In support of the proposed alternative method, the petitioner has also submitted the manufacturer spec sheets for the 3M Versaflo TR-800 PAPR.

The petitioner asserts that the alternative method will guarantee no less than the same measure of protection afforded the miners under the mandatory standard.

Song-ae Aromie Noe,
Director, Office of Standards, Regulations, and Variances.

[FR Doc. 2025-06734 Filed 4-17-25; 8:45 am]

BILLING CODE 4520-43-P